DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: See Supplementary Information section for effective date.

FOR FURTHER INFORMATION CONTACT: OFAC: Andrea Gacki, Director, tel.: 202-622-2490; Associate Director for Global Targeting, tel.: 202-622-2420; Assistant Director for Licensing, tel.: 202-622-2480; Assistant Director for Regulatory Affairs, tel.: 202-622-4855; or Assistant Director for Sanctions Compliance & Evaluation, tel.: 202-622-2490.

SUPPLEMENTARY INFORMATION:

Electronic Availability

The SDN List and additional information concerning OFAC sanctions programs are available on OFAC's website (www.treasury.gov/ofac).

Notice of OFAC Action

On April 11, 2022, OFAC determined that the property and interests in property subject to U.S. jurisdiction of the following persons are blocked under the relevant sanctions authorities listed below.

Individuals

1. CLANCY, Bernard Patrick, 43 Senorio De Cortes, Estepona, Spain; Dubai, United Arab Emirates; DOB 04 Sep 1977; POB Ireland; citizen Ireland; Gender Male; Passport PS0129975 (Ireland); alt. Passport PG7546744 (Ireland) (individual) [TCO] (Linked To: KINAHAN ORGANIZED CRIME GROUP). Designated pursuant to section 1(a)(ii)(B) of Executive Order 13581 of July 24, 2011, “Blocking Property of Transnational Criminal Organizations” (E.O. 13581), as amended by E.O. 13863 of March 15, 2019, “Taking Additional Steps to Address the National Emergency With Respect to Significant Transnational Criminal Organizations” (E.O. 13863), for having materially assisted, sponsored, or provided financial, material, or technological support for, or goods or services to or in support of, the KINAHAN ORGANIZED CRIME GROUP.

2. DIXON, Ian Thomas, Arabian Ranches 2, Street 2, Lila Community, Villa 80, Dubai, United Arab Emirates; DOB 17 Sep 1989; POB Dublin, Ireland; nationality Ireland; Gender Male; Passport PT5688467 (Ireland); alt. Passport PW7797470 (Ireland); Driver's License No. 177803 (United Arab Emirates); Identification Number 784198943250948 (United Arab Emirates); alt. Identification Number 161995173 (United Arab Emirates); alt. Identification Number 082093477 (United Arab Emirates); alt. Identification Number 683129 (United Arab Emirates) (individual) [TCO] (Linked To: KINAHAN, Daniel Joseph). Designated pursuant to section 1(a)(ii)(B) of E.O. 13581, as amended by E.O. 13863, for having materially assisted, sponsored, or provided financial, material, or technological support for, or goods or services to or in support of, Daniel Joseph KINAHAN.

3. KINAHAN, Daniel Joseph, 14 Palm Jumeirah, Dubai 378149, United Arab Emirates; Avda Juan Ramon Jimenez 2, Urbanizacion Cortijo Blanco, San Pedro de Alcantaras, Malaga 29670, Spain; Calle Galicia No 71 A, Guadalmina Baja, Estepona, Spain; DOB 25 Jun 1977; alt. DOB 26 May 1979; POB Dublin, Ireland; nationality Ireland; citizen Ireland; alt. citizen United Kingdom; Gender Male; Passport PB1642995 (Ireland); alt. Passport PW1900911 (Ireland); alt. Passport P008448 (Ireland); alt. Passport PD4435945 (Ireland); alt. Passport 704043374 (United Kingdom); Identification Number 784197715087538 (United Arab Emirates); alt. Identification Number 076822265 (United Arab Emirates); alt. Identification Number 195762701 (United Arab Emirates) (individual) [TCO] (Linked To: KINAHAN ORGANIZED CRIME GROUP). Designated pursuant to section 1(a)(ii)(C) of E.O. 13581, as amended by E.O. 13863, for having acted or purported to act for or on behalf of, directly or indirectly, the KINAHAN ORGANIZED CRIME GROUP.

4. KINAHAN, Christopher Vincent (a.k.a. “KINAHAN SENIOR, Christy”; a.k.a. “O'BRIEN, Christopher”; a.k.a. “THE DAPPER DON”), Dubai, United Arab Emirates; Calle Muntaner 325, Planta 6, 4, Barcelona 08021, Spain; Calle Los Geranios, Villa Indelo N 244, San Pedro De Alcantara, Marbella, Spain; Urbanizacion Torre Bermeja, N 1501, Estepona, Spain; DOB 23 Mar 1957; alt. DOB 19 Nov 1952; alt. DOB 23 May 1957; POB Cabra, Ireland; alt. POB Perivale, Middlesex, United Kingdom; alt. POB London, United Kingdom; alt. POB Dublin, Ireland; nationality Ireland; citizen Ireland; Gender Male; Passport PD3265994 (Ireland); alt. Passport 094456153 (United Kingdom); alt. Passport 707265430 (United Kingdom); alt. Passport C181651D (United Kingdom); alt. Passport 701191749 (United Kingdom) (individual) [TCO] (Linked To: KINAHAN ORGANIZED CRIME GROUP). Designated pursuant to section 1(a)(ii)(C) of E.O. 13581, as amended by E.O. 13863, for having acted or purported to act for or on behalf of, directly or indirectly, the KINAHAN ORGANIZED CRIME GROUP.

5. KINAHAN JUNIOR, Christopher Vincent (a.k.a. “CHRISTY JNR.”), 1404 Iris Blue Building, Dubai Marina, P.O. Box 11850, Dubai, United Arab Emirates; Calle Edificio El Noray, 2 Piso 1 B, Marbella, Spain; Urbanizacion Acosta Los Flamingos Golf, Bloque 82 D, Benahavis, Marbella, Spain; DOB 24 Sep 1980; alt. DOB 30 May 1981; POB Dublin, Ireland; nationality Ireland; citizen Ireland; Gender Male; Passport PW2418905 (Ireland); alt. Passport PT0298836 (Ireland); alt. Passport PN8384153 (Ireland); alt. Passport 512964060 (United Kingdom); Identification Number 784198027625874 (United Arab Emirates); alt. Identification Number 166622091 (United Arab Emirates); alt. Identification Number 077449510 (United Arab Emirates) (individual) [TCO] (Linked To: KINAHAN ORGANIZED CRIME GROUP). Designated pursuant to section 1(a)(ii)(B) of E.O. 13581, as amended by E.O. 13863, for having materially assisted, sponsored, or provided financial, material, or technological support for, or goods or services to or in support of, the KINAHAN ORGANIZED CRIME GROUP.

6. MCGOVERN, Sean Gerard, Dubai, United Arab Emirates; DOB 12 Feb 1986; POB Dublin, Ireland; nationality Ireland; citizen Ireland; Gender Male; Passport PJ2861371 (Ireland) (individual) [TCO] (Linked To: KINAHAN, Daniel Joseph). Designated pursuant to section 1(a)(ii)(B) of E.O. 13581, as amended by E.O. 13863, for having materially assisted, sponsored, or provided financial, material, or technological support for, or goods or services to or in support of, Daniel Joseph KINAHAN.

7. MORRISSEY, John Francis (a.k.a. “MORRISSEY, Johnny”), Dinamarca 46 B, Malaga, Spain; Marbella, Spain; DOB 20 Dec 1959; nationality Ireland; citizen Ireland; Gender Male; Passport W089513 (Ireland); alt. Passport PU8060632 (Ireland) (individual) [TCO] (Linked To: KINAHAN ORGANIZED CRIME GROUP). Designated pursuant to section 1(a)(ii)(B) of E.O. 13581, as amended by E.O. 13863, for having materially assisted, sponsored, or provided financial, material, or technological support for, or goods or services to or in support of, the KINAHAN ORGANIZED CRIME GROUP.

Entities

8. DUCASHEW GENERAL TRADING LLC, Boulevard Plaza, Tower 2, Office No. 2101 and 2102, Sheikh Mohammed Bin Rashid Boulevard, Dubai 454602, United Arab Emirates; Organization Established Date 10 Oct 2016; Dubai Chamber of Commerce Membership No. 276774 (United Arab Emirates); Company Number 767691 (United Arab Emirates) [TCO]. Designated pursuant to section 1(a)(ii)(C) of E.O. 13581, as amended by E.O. 13863, for being owned or controlled by, or has acted or purported to act for or on behalf of, directly or indirectly, Daniel Joseph KINAHAN.

9. HOOPOE SPORTS LLC (f.k.a. HOOPOE BUSINESS BROKERS LLC; f.k.a. HOOPOE SPORTS AGENT L.L.C.), Office No. 2101 and 2102, 21st Floor, Emaar Boulevard Plaza, Tower 2, Dubai, United Arab Emirates; Organization Established Date 17 May 2017; Dubai Chamber of Commerce Membership No. 289666 (United Arab Emirates); Commercial Registry Number 1286684 (United Arab Emirates); Company Number 782807 (United Arab Emirates) [TCO]. Designated pursuant to section 1(a)(ii)(C) of E.O. 13581, as amended by E.O. 13863, for being owned or controlled by, directly or indirectly, Ian Thomas DIXON.

10. KINAHAN ORGANIZED CRIME GROUP (a.k.a. KINAHAN ORGANISED CRIME GROUP; a.k.a. “KOCG”), Ireland; United Kingdom; Spain; Netherlands; Dubai, United Arab Emirates; Target Type Criminal Organization [TCO]. Designated pursuant to section 1(a)(ii)(A) of E.O. 13581, as amended by E.O. 13863, for being a foreign person that constitutes a significant transnational criminal organization.

11. NERO DRINKS COMPANY LIMITED (a.k.a. NERO DRINKS COMPANY SL; a.k.a. NERO VODKA), 15 Cumbernauld Road, Stepps, Glasgow, Scotland G33 6LE, United Kingdom; Unit 20310, P.O. Box 6945, London W1A 6US, United Kingdom; C Dinamarca 46 B, Urbanizacion Faro De Calaburra, Mijas, Spain; Tax ID No. B93681724 (Spain); Company Number SC591051 (United Kingdom) [TCO]. Designated pursuant to section 1(a)(ii)(C) of E.O. 13581, as amended by E.O. 13863, for being owned or controlled by, directly or indirectly, John Francis MORRISSEY.

Dated: April 11, 2022.
Andrea Gacki,
Director, Office of Foreign Assets Control, U.S. Department of the Treasury.

[FR Doc. 2022-07991 Filed 4-13-22; 8:45 am]

BILLING CODE 4810-AL-P